DEPARTMENT OF TRANSPORTATION

Federal Aviation Administration

Notice of Opportunity for Public Comment To Change the Land Use From Aeronautical to Non Aeronautical for 28.46 Acres at Waterville LaFleur Airport, Waterville, ME

AGENCY: Federal Aviation Administration (FAA), DOT.

ACTION: Request for public comments.

SUMMARY: Notice is being given that the FAA is considering a request from the City of Waterville, ME to change the land use from Aeronautical to Non Aeronautical for 28.46 acres. The land use change will allow the development of a solar farm on land that is not needed for aeronautical purposes. The revenue generated by the lease of airport land for the solar farm will be placed into the airport's operation and maintenance fund.

DATES: Comments must be received on or before November 6, 2019.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, 01803. Telephone: 781-238-7618.

Issued in Burlington, Massachusetts on September 27, 2019.
Gail B. Lattrell,
Director, ANE-600.

[FR Doc. 2019-21854 Filed 10-4-19; 8:45 am]

BILLING CODE 4910-13-P